ENVIRONMENTAL PROTECTION AGENCY

[EPA-HQ-OARM-2005-0001; FRL-8009-8]

Agency Information Collection Activities; Submission to OMB for Review and Approval; Comment Request; General Administrative Requirements for Assistance Programs (Renewal), EPA ICR Number 0938.11, OMB Control Number 2030-0020

AGENCY: Environmental Protection Agency (EPA).

ACTION: Notice.

SUMMARY: In compliance with the Paperwork Reduction Act (44 U.S.C. 30501 et seq.), this document announces that an Information Collection Request (ICR) has been forwarded to the Office of Management and Budget (OMB) for review and approval. This is a request to renew an existing approved collection. This ICR is scheduled to expire on December 31, 2005. Under OMB regulations, the Agency may continue to conduct or sponsor the collection of information while this submission is pending at OMB. This ICR describes the nature of the information collection and its estimated burden and cost.

DATES: Additional comments may be submitted on or before February 13, 2006.

ADDRESSES: Submit your comments, referencing Docket ID No. EPA-HQ-OARM-2005-0001, to (1) EPA online using http://www.regulations.gov (our preferred method), by e-mail to oei.docket@epa.gov, or by mail to: EPA Docket Center, Environmental Protection Agency, Office of Environmental Information Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: William G. Hedling, Office of Grants and Debarment, Grants Administration Division, Mail Code 3903R, Environmental Protection Agency, 1200 Pennsylvania Ave., NW., Washington, DC 20460; telephone number: (202) 564-5377; fax number: (202) 565-2468; e-mail address: Hedling.William@epa.gov.

SUPPLEMENTARY INFORMATION: EPA has submitted the following ICR to OMB for review and approval according to the procedures prescribed in 5 CFR 1320.12. On July 19, 2005, (70 FR 41398), EPA sought comments on this ICR pursuant to 5 CFR 1320.8(d). EPA received no comments.

EPA had established a public docket for this ICR under Docket No. EPA-HQ-OARM-2005-001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available at http://www.regulations.gov. Use http://www.regulations.gov to submit or view public comments, access the index listing of the contents of the public docket, and to access those documents in the public docket that are available electronically. Once in the system, select “search,” then key in the docket ID number identified above.

An comments related to this ICR should be submitted to EPA and OMB within 30 days of this notice. EPA's policy is that public comments, whether submitted electronically or in paper, will be made available for public viewing in http://www.regulations.gov as EPA receives them and without change, unless the comment contains copyrighted material, CBI, or other information whose public disclosure is restricted by statue. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statue, is not included in the official public docket, and will not be available for public viewing in http://www.regulations.gov. For further information about the electronic docket go to http://www.regulations.gov.

Title: General Administrative Requirements for Assistance Programs (Renewal).

Abstract: The information is collected from applicants/recipients of EPA assistance to monitor adherence to the programmatic and administrative requirements of the Agency's financial assistance program. It is used to make awards, pay recipients, and collect information on how Federal funds are being spent. EPA needs this information to meet its Federal stewardship responsibilities. This ICR renewal requests authorization for the collection of information under EPA's General Regulation for Assistance Programs, which establishes minimum management requirements for all recipients of EPA grants or cooperative agreements (assistance agreements). Recipients must respond to these information requests to obtain and/or retain a benefit (Federal funds). 40 CFR part 30, “Grants and Agreements with Institutions of Higher Education, Hospitals, and Other Non-Profit Organizations,” includes the management requirements for potential grantees from non-profit organizations. 40 CFR part 31, “Uniform Administrative Requirements for Grants and Cooperative Agreements to State and Local Governments,” includes the management responsibilities for potential State and local government grantees. These regulations include only those provisions mandated by statute, required by OMB Circulars, or added by EPA to ensure sound and effective financial assistance management. The OMB 83-I Form associated with this ICR combines all of these requirements under OMB Control Number 2030-0020. The information required by these regulations will be used by EPA award officials to make assistance awards and assistance payments and to verify that the recipient is using Federal funds appropriately to comply with OMB Circulars A-21, A-87, A-102, A-110, A-122, A-128, and A-133, which set forth the pre-award, post-award, and after-the-grant requirements.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 18 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Institutions of higher education, hospitals, and other not-for-profit institutions; State, local, and Indian tribal governments.

Estimated Number of Respondents: 6,105.

Frequency of Response: On occasion, quarterly, and annually.

Estimated Total Annual Hour Burden: 108,887.

Estimated Total Annual Cost: $4,852,000, includes $0 annualized capital or O&M costs and $4,852,000 annual labor costs.

Changes in the Estimates: There is a decrease of 67,682 hours in the total estimated burden currently identified in the OMB Inventory of Approved ICR Burdens. This decrease has occurred for several reasons, and includes a program change decease of 65,287 hours and an adjustment decrease of 2,395 hours. EPA removed five forms (EPA Forms: 5700-20A, 5700-20B, 5700-30, 5700-49 and 5700-52A) and added three forms (“Lobbying Cost Certificate for Indirect Costs,” NCER Form 5, and NCER Form 3212). These programs changes resulted in an overall decrease of 65,287 hours. In addition EPA made several adjustments to its burden and respondent assumptions, which resulted in an overall decrease of 2,395 hours.

Dated: December 12, 2005.
Oscar Morales,
Director, Collection Strategies Division.

[FR Doc. 06-267 Filed 1-11-06; 8:45 am]

BILLING CODE 6560-50-M